DEPARTMENT OF LABOR

Employment and Training Administration

Agency Information Collection Activities; Comment Request; Application for Alien Employment Certification, Extension of Currently Approved Collection

AGENCY: Employment and Training Administration, Labor.

ACTION: Notice.

SUMMARY: The Department of Labor (DOL), Employment and Training Administration (ETA), is soliciting comments concerning a proposed extension for the authority to conduct the information collection request (ICR) titled “Application for Alien Employment Certification.” This comment request is part of continuing Departmental efforts to reduce paperwork and respondent burden in accordance with the Paperwork Reduction Act of 1995.

DATES: Consideration will be given to all written comments received by June 23, 2017.

ADDRESSES: A copy of this ICR with applicable supporting documentation, including a description of the likely respondents, proposed frequency of response, and estimated total burden may be obtained free of charge by contacting William W. Thompson II, Administrator, Office of Foreign Labor Certification, telephone number: 202-513-7350 (this is not a toll-free number). Individuals with hearing or speech impairments may access the telephone number above via TTY by calling the toll-free Federal Information Relay Service at 1-877-889-5627 (TTY/TDD). Fax: 202-513-7395 or by email at ETA.OFLC.Forms@dol.gov subject line: ETA-750, parts A and B.

Submit written comments about, or requests for a copy of, this ICR by mail or courier to the U.S. Department of Labor, Employment and Training Administration, Office of Foreign Labor Certification, Room 12-200, 200 Constitution Avenue NW., Washington, DC 20210; by email: ETA.OFLC.Forms@dol.gov subject line: ETA-750, parts A and B; or by Fax 202-513-7395.

FOR FURTHER INFORMATION CONTACT: William W. Thompson II, by telephone at 202-513-7350 (this is not a toll-free number) or by email at ETA.OFLC.Forms@dol.gov.

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Secretary of Labor is required by the Immigration and Nationality Act (INA) to certify that any alien seeking to enter the United States for the purpose of performing skilled or unskilled labor will not adversely affect wages and working conditions of U.S. workers similarly employed, and that there are not sufficient U.S. workers able, willing, and qualified to perform such skilled or unskilled labor. Many foreign professional athletes must qualify as skilled labor to gain permanent admission to the United States. Section 212(a)(5)(A)(iii) of the INA deals specifically with professional athletes coming to the United States on a permanent basis as immigrants.

Part A of Form ETA-750 is used to collect information that, when appropriate, permits DOL to certify that the admission of a foreign professional athlete meets the requirements of Section 212(a)(5)(A) of the INA. Part B of Form ETA-750 provides detailed information about a foreign national's education and work history, and is used by DOL to collect information about the professional athlete on whose behalf an application for permanent labor certification is filed. The Department of Homeland Security also uses Part B under 8 CFR 204.5(k)(4)(ii), for aliens without an employer sponsor who are applying for a National Interest Waiver (NIW) of the job offer requirement under INA Section 203(b)(2)(B)(i), which allows aliens to self-petition and, where appropriate, to enter without a labor certification. Sections 203(b)(2)(B)(i) and 212(a)(5)(A)) of the INA (8 U.S.C. 1153(b)(2)(B)(i) and § 1182(a)(5)(A)) and 8 CFR 204.5(k)(4)(ii) authorizes this information collection.

This information collection is subject to the PRA. A Federal agency generally cannot conduct or sponsor a collection of information, and the public is generally not required to respond to an information collection, unless the OMB under the PRA approves it and the information collection displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention ETA, OMB Control Number 1205-0015.

Submitted comments will also be a matter of public record for this ICR, and posted on the Internet without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension without change.

Title of Collection: Application for Alien Employment Certification.

Form: Form ETA-750, Parts A and B.

OMB Control Number: 1205-0015.

Affected Public: Individuals, businesses or other for-profit entities, and not-for-profit entities.

Estimated Number of Respondents: 6695.

Frequency: On occasion.

Total Estimated Annual Responses: 6695.

Estimated Average Time per Response: 1 hour 49 minutes.

Estimated Total Annual Burden Hours: 12,103 hours.

Total Estimated Annual Other Cost Burden: $974,170.47.

Byron Zuidema,
Acting Assistant Secretary for Employment and Training, Labor.

[FR Doc. 2017-08245 Filed 4-21-17; 8:45 am]

BILLING CODE 4510-FP-P